NUCLEAR REGULATORY COMMISSION

[Docket No. 72-22]

Public Meeting; Additional Public Comments on NUREG-1714: “Draft Environmental Impact Statement Construction and Operation of an Independent Spent Fuel Storage Installation on the Reservation of the Skull Valley Band of Goshute Indians and Associated Transportation Facility in Tooele County, UT”

LEAD AGENCY: Nuclear Regulatory Commission.

COOPERATING AGENCIES: Department of Interior, Bureau of Indian Affairs and Bureau of Land Management and Surface Transportation Board.

ACTION: Notice of public meeting.

SUMMARY: A supplemental public meeting will be held on August 21, 2000, at the Little America Hotel in Salt Lake City, UT to hear public comments on the Draft Environmental Impact Statement (DEIS) regarding the proposal of Private Fuel Storage, L.L.C. (PFS), to construct, operate, and decommission an independent spent fuel storage installation (ISFSI) on the Reservation of the Skull Valley Band of Goshute Indians. Two previous meetings were held on July 27, 2000 and July 28, 2000, in Salt Lake City, UT and Grantsville, UT, respectively. This August 21, 2000, meeting is a follow-up to the July meetings. The July meetings were noticed in the Federal Register on June 23, 2000 (Volume 65, No. 122, pages 39206-39208).

The PFS proposal requires approval from four federal agencies: NRC, Department of Interior's Bureau of Indian Affairs (BIA) and Bureau of Land Management (BLM), and the Surface Transportation Board (STB).

DATES: August 21, 2000.

The NRC staff will hold a public meeting to accept public comments. The public meeting will be held in two sessions on August 21, 2000, from 2 p.m. to 4 p.m. and from 6 p.m. to 9 p.m. in Ballroom A of the Little America Inn, 500 South Main Street, Salt Lake City, Utah 84101. This meeting will be transcribed and will include (1) a presentation of the contents of the DEIS and the Safety Evaluation Report, and (2) the opportunity for interested Government agencies, organizations, and individuals to provide comments on the DEIS. Persons may pre-register to attend or present oral comments at the public meeting on the DEIS by contacting Scott C. Flanders, Sr. Environmental Project Manager, Licensing and Inspection Directorate, Spent Fuel Project Office, Office of Nuclear Material Safety and Safeguards, Nuclear Regulatory Commission, Washington, DC 20555 or via Telephone at (301) 415-1172 or via email at SCF@nrc.gov. Information concerning this DEIS may also be obtained from Mr. Flanders. Members of the public may also register within 15 minutes of the start of each meeting to provide oral comments. Individual oral comments may be limited by the time available and depending on the number of persons who register.

FOR FURTHER INFORMATION CONTACT: Scott C. Flanders, Sr. Environmental Project Manager, Licensing and Inspection Directorate, Spent Fuel Project Office, Office of Nuclear Material Safety and Safeguards, Nuclear Regulatory Commission, Washington, DC 20555. Telephone (301) 415-1172. Internet address: SCF@nrc.gov.

SUPPLEMENTARY INFORMATION: Participation in the public process does not entitle participants to become parties to the adjudicatory proceeding associated with the proposed NRC licensing action. Participation in the adjudicatory proceeding is governed by the procedures specified in 10 CFR 2.714 and 2.715 and in the aforementioned Federal Register notice (62 FR 41099).

Dated at Rockville, Maryland, this 4th day of August 2000.
For the Nuclear Regulatory Commission.
Susan F. Shankman,
Deputy Director, Licensing and Inspection Directorate, Spent Fuel Project Office, Office of Nuclear Material Safety and Safeguards.

[FR Doc. 00-20334 Filed 8-9-00; 8:45 am]

BILLING CODE 7590-01-P